NUCLEAR REGULATORY COMMISSION

[NRC-2024-0097]

Effect of Statutory Prohibition on Uranium Imports From the Russian Federation

AGENCY: Nuclear Regulatory Commission.

ACTION: Notice.

SUMMARY: The U.S. Nuclear Regulatory Commission (NRC) is issuing a notice explaining how recently enacted legislation that prohibits imports of certain uranium products (natural uranium and low-enriched uranium) from the Russian Federation affects imports under NRC licenses. After the statutory prohibition becomes effective, importers will no longer be able to use the NRC general license to import these materials from the Russian Federation unless they first obtain a waiver from the U.S. Department of Energy (DOE). The NRC will return any specific license applications for such imports without action.

DATES: May 24, 2024.

ADDRESSES: Please refer to Docket ID NRC-2024-0097 when contacting the NRC about the availability of information regarding this document. You may obtain publicly available information related to this document using any of the following methods:

• Federal Rulemaking Website: Go to https://www.regulations.gov and search for Docket ID NRC-2024-0097. Address questions about Dockets IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Office of International Programs, U.S. Nuclear Regulatory Commission, Washington, DC 20555-0001, telephone: 301-287-9241, email: IP.Resource@nrc.gov.

SUPPLEMENTARY INFORMATION: The NRC regulates imports of special nuclear material (including low-enriched uranium) and source material (including natural uranium) under part 110 of title 10 of the Code of Federal Regulations (10 CFR), “Export and Import of Nuclear Equipment and Material,” pursuant to its authority in sections 53 and 62 of the Atomic Energy Act of 1954, as amended. The NRC is providing this notice to inform persons who are subject to NRC regulation under 10 CFR part 110 of recent legislation that prohibits certain uranium imports.

On May 13, 2024, President Biden signed into law the Prohibiting Russian Uranium Imports Act (the Act) (Pub. L. 118-62, 138 Stat. 1022). The Act amends section 3112A of the United States Enrichment Corporation (USEC) Privatization Act (42 U.S.C. 2297h-10a) to prohibit imports into the United States of unirradiated low-enriched uranium and natural uranium that are produced in the Russian Federation or by a Russian entity (defined as “an entity organized under the laws of or otherwise subject to the jurisdiction of the Government of the Russian Federation”).¹ The Act also prohibits imports of unirradiated low-enriched uranium and natural uranium that are determined to have been exchanged with, swapped for, or otherwise obtained in lieu of unirradiated low-enriched uranium or natural uranium produced in the Russian Federation or by a Russian entity in a manner designed to circumvent the import prohibition. This statutory import prohibition becomes effective on August 11, 2024.

¹ In this notice, the terms “low-enriched uranium” and “natural uranium” have the meanings given in 10 CFR 110.2. Section 3112A of the USEC Privatization Act (42 U.S.C. 2297h-10a(a)(5)) defines low-enriched uranium as any form of uranium, including uranium hexafluoride and uranium oxide, in which the uranium contains less than 20 percent uranium-235, including natural uranium. This statutory definition encompasses low-enriched uranium and natural uranium as those terms are defined in 10 CFR 110.2.

The Act grants the Secretary of Energy the authority, for a finite period, to waive the import prohibition and authorize imports of unirradiated low-enriched uranium and natural uranium that fall within the statutory prohibition. A notice from the DOE describing the process for seeking a waiver is being published concurrently in the Federal Register. Imports of low-enriched uranium and natural uranium under DOE waivers remain subject to all applicable NRC regulations, including the general import license in 10 CFR 110.27.

Accordingly, after the statutory prohibition takes effect on August 11, 2024, the general license in 10 CFR 110.27 can no longer be used for imports that fall within the statutory prohibition, unless the importer obtains a waiver from the DOE. Additionally, specific licenses under 10 CFR part 110 will not be available for imports that fall within the prohibition. If the NRC receives any applications for such specific licenses, including cases where the DOE has denied a waiver request or because waivers are no longer available, those applications will be returned by the NRC without action.

Dated: May 16, 2024.
For the Nuclear Regulatory Commission.
David L. Skeen,
Director, Office of International Programs.

[FR Doc. 2024-11164 Filed 5-23-24; 8:45 am]

BILLING CODE 7590-01-P